GENERAL SERVICES ADMINISTRATION

Office of Communications; Cancellation of Standard Forms

AGENCY: Office of Management Services, GSA.

ACTION: Notice.

SUMMARY: The General Services Administration (GSA), Office of Governmentwide Policy canceled the following forms:

SF 1109, U.S. Government Bill of Lading—Continuation Sheet (both constructions)

SF 1200, Government Bill of Lading Correction Notice

The Federal Management Regulation (41 CFR) 102-118 prescribing these forms was rewritten to delete their use.

DATES: Effective June 10, 2002.

FOR FURTHER INFORMATION CONTACT: Ms. Elizabeth Allison, General Services Administration, (202) 219-1729.

Dated: June 4, 2002.
Barbara M. Williams,
Deputy Standard and Optional Forms Management Officer, General Services Administration.

[FR Doc. 02-14509 Filed 6-07-02; 8:45 am]

BILLING CODE 6820-BR-M